DEPARTMENT OF EDUCATION

Office of Special Education and Rehabilitative Services, Rehabilitation Act of 1973, as Amended

ACTION: Notice of a public meeting; correction.

SUMMARY: On July 26, 2005, we published in the Federal Register (70 FR 43132) a notice announcing plans to hold a public meeting to seek comments and suggestions about the Rehabilitation Services Administration's (RSA's) monitoring process.

On page 43132, third column, under ADDRESSES, the location of the meeting is corrected to read, “The meeting will be held at the Marriott Wardman Park Hotel, 2660 Woodley Rd., NW., Washington, DC 20008.”

FOR FURTHER INFORMATION CONTACT: David Esquith, Rehabilitation Services Administration, Office of Special Education and Rehabilitative Services, U.S. Department of Education, 400 Maryland Avenue, SW., room 5175, Potomac Center Plaza, Washington, DC 20202. Telephone: (202) 245-7336.

If you use a telecommunications device for the deaf (TDD), you may call the Federal Relay Service (FRS) at 1-800-877-8339.

SUPPLEMENTARY INFORMATION:

Background

On July 26, 2005 RSA published a notice in the Federal Register (70 FR 43132) announcing a public meeting to provide an opportunity for stakeholders in the vocational rehabilitation process to provide RSA with their input on the RSA monitoring process.

In order to accommodate the participation of more individuals and to offer more rooms to participants from out of town at a reduced rate, RSA has changed the location of the meeting to the Marriott Wardman Park Hotel.

Individuals who wish to register for the public meeting should do so at the following Web site: http://www.dtiassociates.com/rsamonitoring.

Individuals who need accommodations for a disability in order to attend the meetings (i.e., interpreting services, assistive listening devices, or material in alternative formats) should notify the contact person listed under FOR FURTHER INFORMATION CONTACT. The meeting locations will be accessible to individuals with disabilities.

Electronic Access to this Document: You may view this document, as well as all other documents this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 5, 2005.
John H. Hager,
Assistant Secretary for Special Education and Rehabilitative Services.

[FR Doc. 05-15785 Filed 8-9-05; 8:45 am]

BILLING CODE 4000-01-P